Title 3—

The President

Proclamation 9365 of November 6, 2015

World Freedom Day, 2015

By the President of the United States of America

A Proclamation

Twenty-six years ago, after nearly three decades of separating family and friends, the Berlin Wall crumbled under the force of popular will—reuniting Germans from East and West and providing hope to all who believed in the power of a people yearning to be free. The fall of the Iron Curtain liberated a continent from the grip of corrupt dictatorships, and its demise marked a victory for democratic rule over forces that had for too long sealed out the fresh air of freedom. On this day, we honor those who braved extreme hardship in pursuit of progress and reunification, and we reaffirm our support for the citizens of the world who still face obstacles to a better, brighter, and more just future.

In standing with all those behind the Curtain who felt the urgency of the time and who sought a democracy of their own, the United States recognized our own past: A common struggle for individual rights, security, and human dignity. During a stirring defense of these ideals, it was an American President who famously pledged solidarity with Berliners, and another who issued a bold call to tear down what stood between Germany and the blessings of liberty. As we celebrate our friendship with the German people today, we reflect on our history and look to the future with a shared notion of optimism and opportunity.

Through their victory, the people of Berlin inspired the world. Their resolve reminds us that though the scourge of oppression endures, it can never outlast the spirit of a people determined to live free. On this day, let us carry forward the call that echoes through the ages—“Ich bin ein Berliner”—by supporting those who still struggle against tyranny and intolerance, and who continue to seek the everlasting light of liberty.

NOW, THEREFORE, I, BARACK OBAMA, President of the United States of America, by virtue of the authority vested in me by the Constitution and the laws of the United States, do hereby proclaim November 9, 2015, as World Freedom Day. I call upon the people of the United States to observe this day with appropriate ceremonies and activities, reaffirming our dedication to freedom and democracy.

IN WITNESS WHEREOF, I have hereunto set my hand this sixth day of November, in the year of our Lord two thousand fifteen, and of the Independence of the United States of America the two hundred and fortieth.

[FR Doc. 2015-28912

Filed 11-10-15; 11:15 am]

Billing code 3295-F6-P